AGENCY FOR INTERNATIONAL DEVELOPMENT

22 CFR Part 212

RIN 0412-AB00

Procedures for the Review and Clearance of USAID's Guidance Documents; Rescission; Correction

AGENCY: U.S. Agency for International Development (USAID).

ACTION: Final rule rescission; correction.

SUMMARY: The U.S. Agency for International Development is correcting a final rule rescission that was published in the Federal Register on April 9, 2021. This rule rescinded the regulation published on January 5, 2021, titled “Procedures for the review and clearance of USAID's Guidance Documents,” to comply with the Executive order (E.O.) titled “Revocation of Certain Executive Orders Concerning Federal Regulation,” signed on January 20, 2021, which specifically requires the revocation of the E.O. titled “Promoting the Rule of Law Through Improved Agency Guidance Documents,” signed on October 9, 2019. In the final rule, the date for the E.O. “Promoting the Rule of Law Through Improved Agency Guidance Documents,” year was incorrect. This document corrects that error.

DATES: Effective April 21, 2021.

FOR FURTHER INFORMATION CONTACT: Jenna Giandoni, jgiandoni@usaid.gov, 202-921-5093.

SUPPLEMENTARY INFORMATION: In FR Doc. 2021-07314, which published in the Federal Register on Friday, April 9, 2021 at 86 FR 18444, the following corrections are made:

1. On page 18444, in the third column, in the SUMMARY, correct the year “2010” to read “2019” in two places.

2. On page 18445, in the first column, in the second paragraph of the SUPPLEMENTARY INFORMATION, correct the year “2010” to read “2019”.

Ruth Buckley,
Acting Performance Improvement Officer/Acting Office Director, Bureau for Management Office of Management Policy, Budget and Operational Performance.

[FR Doc. 2021-08081 Filed 4-20-21; 8:45 am]

BILLING CODE P